DEPARTMENT OF COMMERCE

International Trade Administration

[A-201-834]

Purified Carboxymethylcellulose From Mexico: Final Results of Antidumping Duty Administrative Review

AGENCY: Import Administration, International Trade Administration, Department of Commerce.

SUMMARY: On June 15, 2010, the Department of Commerce (the Department) published the preliminary results of the administrative review of the antidumping duty order on purified carboxymethylcellulose (CMC) from Mexico. See Purified Carboxymethylcellulose From Mexico: Notice of Preliminary Results of Antidumping Duty Administrative Review, 75 FR 33775 (June 15, 2010) (Preliminary Results). The review covers one producer/exporter, Quimica Amtex, S.A. de C.V. (Amtex). The period of review (POR) is July 1, 2008, through June 30, 2009. We invited interested parties to comment on our Preliminary Results. The Department received comments concerning our Preliminary Results from Amtex only. Based on our analysis of the comments received, we have made one change in the margin calculations. Therefore, the final results differ from the Preliminary Results. The final weighted-average dumping margin for the reviewed firm is listed below in the section entitled “Final Results of Review.”

DATES: Effective Date: October 7, 2010.

FOR FURTHER INFORMATION CONTACT: Mark Flessner or Robert James, AD/CVD Operations Office 7, Import Administration, International Trade Administration, U.S. Department of Commerce, 14th Street and Constitution Avenue, NW., Washington, DC 20230; telephone: (202) 482-6312 or (202) 482-0649, respectively.

SUPPLEMENTARY INFORMATION:

Background

On June 15, 2010, the Department published the preliminary results of this review in the Federal Register. See Preliminary Results. We invited interested parties to comment on the Preliminary Results. Since the Preliminary Results, we received a case brief from respondent Amtex on July 15, 2010. See “Purified Carboxymethylcellulose from Mexico—A-201-834 (Administrative Review 7/1/2008-6/30/2009): Case Brief,” dated July 15, 2010, at 1-2 (Amtex Case Brief). No brief was received from petitioner, Aqualon Company (a division of Hercules Incorporated), nor did petitioner file a rebuttal to Amtex's case brief.

Amtex originally reported the quantity unit of measure for some of its U.S. sales as “2,” indicating sales in pounds. See Amtex's Section C Questionnaire Response dated October 29, 2010, at pages C-53 to C-56. For such sales, Amtex contends, the Department should adjust for packing expenses using per-pound amounts. See Amtex Case Brief at 1-2. In its case brief, Amtex alleged that the Department had failed to make a conversion from kilograms to pounds for those sales originally reported in pounds in the U.S. market database when adjusting for packing expenses. Id.

Scope of the Order

The merchandise covered by the order is all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to this order is classified in the Harmonized Tariff Schedule of the United States at subheading 3912.31.00. This tariff classification is provided for convenience and customs purposes; however, the written description of the scope of the order is dispositive.

Changes Since the Preliminary Results

Based on our analysis of Amtex's comments, we have made one change to the margin calculations. After analyzing the databases and the programming used in the Preliminary Results, we agreed with Amtex's contention concerning the conversion of packing costs reported in pounds. Therefore, we added one line of programming to the comparison market program stipulating that if the quantity unit reporting is in pounds (i.e., “2”), then an adjustment to the comparison market program is appropriate. See Memorandum to the File from Mark Flessner, Case Analyst, through Robert James, Program Manager, entitled “Purified Carboxymethylcellulose from Mexico: Final Determination Analysis Memorandum for Quimica Amtex, S.A. de C.V.,” dated September 27, 2010. Because the only comments received dealt with the singular programming issue, we have not included a separate Issues and Decisions memorandum to accompany this notice of final results.

Final Results of Review

The final weighted-average dumping margin for the period July 1, 2008, through June 30, 2009, is as follows:

Producer/exporter | Weighted-average margin (percentage)
Quimica Amtex, S.A. de C.V | 0.83

Assessment

The Department shall determine, and U.S. Customs and Border Protection (CBP) shall assess, antidumping duties on all appropriate entries. We have calculated importer-specific ad valorem duty assessment rates based on the ratio of the total amount of antidumping duties calculated for the examined sales to the total entered value of the sales. We will instruct CBP to assess antidumping duties on all appropriate entries covered by this review if any importer-specific assessment rate calculated in the final results of this review is above de minimis (i.e., less than 0.50 percent). The Department intends to issue assessment instructions to CBP 41 days after the date of publication of these final results of review. See 19 CFR 356.8(a).

The Department clarified its “automatic assessment” regulation on May 6, 2003. See Antidumping and Countervailing Duty Proceedings: Assessment of Antidumping Duties, 68 FR 23954 (May 6, 2003). This clarification will apply to entries of subject merchandise during the POR produced by companies included in these final results of review for which the reviewed companies did not know their merchandise was destined for the United States. In such instances, we will instruct CBP to liquidate un-reviewed entries at the all-others rate established in the less-than-fair-value (LTFV) investigation if there is no rate for the intermediate company or companies involved in the transaction.

Cash Deposit Requirements

Further, the following deposit requirements will be effective for all shipments of purified carboxymethylcellulose from Mexico entered, or withdrawn from warehouse, for consumption on or after the publication date of the final results of this administrative review, as provided for by section 751(a)(2)(C) of the Tariff Act of 1930, as amended (the Act): (1) The cash deposit rates for Amtex will be the rate shown above; (2) for previously-investigated or reviewed companies not listed above, the cash deposit rate will continue to be the company-specific rate published for the most recent period; (3) if the exporter is not a firm covered in this review, or the LTFV investigation, but the manufacturer is, the cash deposit rate will be the rate established for the most recent period for the manufacturer of the merchandise; and, (4) the cash deposit rate for all other manufacturers or exporters will continue to be 12.61 percent, the “all others” rate established in the LTFV investigation. See Notice of Final Determination of Sales at Less Than Fair Value: Purified Carboxymethylcellulose from Mexico, 70 FR 28280 (May 17, 2005). These deposit requirements shall remain in effect until further notice.

Notification to Importers

This notice serves as a final reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and notice are issued and published in accordance with sections 751(a)(1) and 777(i)(1) of the Act.

Dated: September 27, 2010.
Ronald K. Lorentzen,
Deputy Assistant Secretary for Import Administration.

[FR Doc. 2010-25300 Filed 10-6-10; 8:45 am]

BILLING CODE 3510-DS-P